DEPARTMENT OF AGRICULTURE

Food Safety and Inspection Service

9 CFR Part 381

[Docket No. FSIS-2007-0016]

Eligibility of Chile To Export Poultry and Poultry Products to the United States: Proposed Rule Comment Period Extension and Notice of New Information

AGENCY: Food Safety and Inspection Service, USDA.

ACTION: Proposed rule; supplemental information.

SUMMARY: The Food Safety and Inspection Service (FSIS) is providing additional information about the basis on which it has tentatively concluded that Chile's inspection system for poultry and poultry products is equivalent to that of the United States. FSIS published a proposed rule (FSIS-2006-0030) in the Federal Register of February 26, 2007 (72 FR 8293-8296), that would add Chile to the list of countries eligible to export poultry and poultry products to the United States. A comment on the proposal noted a deficiency that FSIS found in its onsite audit of Chile's inspection system and questioned how, given that deficiency, FSIS could find Chile's system equivalent. FSIS is addressing this concern in this supplement to the proposed rule. Given that FSIS is providing additional information to explain the basis for its tentative finding of equivalency, FSIS is re-opening the comment period on the proposed rule to May 25, 2007.

DATES: Submit comments by May 25, 2007.

ADDRESSES: FSIS invites interested persons to submit comments on the proposed rule referenced in this document. Comments may be submitted by any of the following methods:

• Federal eRulemaking Portal: This Web site provides the ability to type short comments directly into the comment field on this Web page or attach a file for lengthier comments. FSIS prefers to receive comments through the Federal eRulemaking Portal. Go to http://www.regulations.gov and, in the “Search for Open Regulations” box, select “Food Safety and Inspection Service” and “Proposed Rules” from the agency drop-down menu and then click on “Submit.” In the Docket ID column, select the FDMS Docket Number to submit or view public comments and to view supporting and related materials available electronically. After the close of the comment period, the docket can be viewed using the “Advanced Search” function in Regulations.gov.

• Mail, including floppy disks or CD-ROM's, and hand- or courier-delivered items: Send to Docket Clerk, U.S. Department of Agriculture, Food Safety and Inspection Service, 300 12th Street, SW., Room 102 Cotton Annex, Washington, DC 20250.

• Electronic mail: RiskBasedInspection@fsis.usda.gov.

All submissions received must include the Agency name and docket number FSIS-2006-0030.

All comments submitted in response to this proposed rule will be posted to the regulations.gov Web site. Comments will also be available for public inspection in the FSIS Docket Room at the address listed above between 8:30 a.m. and 4:30 p.m., Monday through Friday.

FOR FURTHER INFORMATION CONTACT: For further information contact Daniel Engeljohn, Ph.D., Deputy Assistant Administrator for Office of Policy, Program and Employee Development, FSIS, U.S. Department of Agriculture, Room 3147, South Building, 14th and Independence, SW., Washington, DC 20250-3700; telephone (202) 205-0495, fax (202) 401-1760, daniel.engeljohn@usda.fsis.gov.

SUPPLEMENTARY INFORMATION:

Background

FSIS is the public health regulatory agency in the U.S. Department of Agriculture (USDA) responsible for ensuring that the nation's commercial supply of meat, poultry, and egg products is safe, wholesome, and correctly labeled and packaged. Under the Poultry Products Inspection Act (21 U.S.C. 466), FSIS must evaluate a foreign country's inspection system before determining that country is eligible to export poultry or poultry products. This evaluation consists of two parts: A document review and an on-site review. The document review is an evaluation of the laws, regulations, and other written materials used by the country to effect its inspection program. If the document review is satisfactory, the on-site review is scheduled. It is conducted by a multi-disciplinary team that evaluates all aspects of the country's inspection program, including its laboratories and individual establishments within the country. The process of determining equivalence is described fully on the FSIS Web site at http://www.fsis.usda.gov/regulations_&_policies/equivalence_process/index.asp.

The FSIS review of Chile's poultry inspection system found that Chile's requirements are equivalent to the relevant provisions of the PPIA and the regulations that implement that statute. The FSIS on-site review of Chile's poultry inspection system in August 2005 found, however, that Chile was not conducting species verification testing as required.

Chile immediately committed to remedying this deficiency and has documented the steps that it has taken to implement species verification testing. FSIS has evaluated the documentation provided by Chile and is confident that Chile has sufficient controls in place to ensure that species verification testing is being performed. It is noteworthy that FSIS audited Chile's beef slaughter inspection system in March-April 2006 and found that species verification testing is being performed by the Chilean government in the beef slaughter establishments certified to export to the United States.

FSIS documentation of the materials submitted by Chile to satisfy the species verification requirement for poultry can be found online as an addendum to the 2005 FSIS audit of Chile's poultry inspection system at http://www.fsis.usda.gov/regulations_&_policies/Foreign_Audit_Reports/index.asp.

FSIS is re-opening the comment period for this proposed rule so that the public can have an opportunity to comment on the new information that the Agency is making available. Comments must be received by May 25, 2007.

Under this proposed rule, poultry and poultry products processed in certified Chilean establishments may be exported to the United States. All such products will be subject to re-inspection at United States ports-of-entry by FSIS inspectors.

E-Government Act Compliance

The Food Safety and Inspection Service is committed to complying with the E-Government Act, to promote the use of the Internet and other information technologies to provide increased opportunities for citizen access to Government information and services, and for other purposes.

Additional Public Notification

Public awareness of all segments of rulemaking and policy development is important. Consequently, in an effort to ensure that minorities, women, and persons with disabilities are aware of this document, FSIS will announce it on-line through the FSIS Web page located at http://www.fsis.usda.gov/regulations_&_policies/2007_Proposed_Rules_Index/index.asp. FSIS will also make copies of this Federal Register publication available through the FSIS Constituent Update, which is used to provide information regarding FSIS policies, procedures, regulations, Federal Register notices, FSIS public meetings, recalls, and other types of information that could affect or would be of interest to constituents and stakeholders. The update is communicated via Listserv, a free electronic mail subscription service for industry, trade and farm groups, consumer interest groups, allied health professionals, and other individuals who have asked to be included. The update is available on the FSIS Web page. Through the Listserv and Web page, FSIS is able to provide information to a much broader and more diverse audience. In addition, FSIS offers an e-mail subscription service which provides automatic and customized access to selected food safety news and information. This service is available at http://www.fsis.usda.gov/news_and_events/email_subscription/. Options range from recalls to export information to regulations, directives and notices. Customers can add or delete subscriptions themselves and have the option to password-protect their account.

Done at Washington, DC, on April 30, 2007.
David P. Goldman,
Acting Administrator.

[FR Doc. 07-2202 Filed 5-9-07; 8:45 am]

BILLING CODE 3410-DM-P